DEPARTMENT OF HEALTH AND HUMAN SERVICES

Administration for Children and Families

Statement of Organization, Functions and Delegation of Authority

Notice is hereby given that I have redelegated to the Director, Program Operations Division, Office of Head Start, the following authorities vested in me by the Assistant Secretary of Administration for Children and Families in the memoranda dated February 16, 2007.

(a) Authorities Delegated

1. Approve and disapprove refunding and supplemental funding applications for existing grantees, not including designated interim grantees.

2. Approve and disapprove collaboration grant applications authorized under 42 U.S.C. 9835.

3. Approve and disapprove contract proposals for award, not including proposals for national interim grantee contracts.

4. Approve and disapprove quality improvement plans (QIP) as required under 42 U.S.C. 9836A(d)(2)(B).

5. Conduct, as the responsible HHS official, informal meetings with current grantees or current or prospective delegate agencies as authorized by 45 CFR part 1303.11 and 1303.12.

6. Conduct, as the responsible HHS official, informal meetings authorized by 45 CFR part 1303.21 related to appeals by current or prospective delegate agencies.

7. Serve as the Approving Official to sign audit determination letters only where resolution does not involve a cost disallowance.

8. Approve and issue termination and suspension actions resulting from monitoring review reports approved and issued by the Regional Office.

(b) Limitations

1. The approval of grant applications requires concurrence of the appropriate Grants Officer.

2. The approval of contract proposals and awards are subject to the requirements of the Federal Acquisition Regulations and require consultation with the Director, Office of Head Start and the concurrence of the Contracting Officer.

3. The approval and issuance of terminations and suspensions resulting from monitoring review reports approved and issued by the Regional Office require the concurrence of the Director, Office of Head Start.

4. This redelegation shall be exercised under financial and administrative requirements applicable to all Administration for Children and Families authorities.

5. Any redelegation shall be in writing and prompt notification must be provided to all affected managers, supervisors, and other personnel, and requires the concurrence of the Deputy Assistant Secretary for Administration.

(c) Effective Date

This redelegation was effective on April 26, 2007.

(d) Effect on Existing Delegations

This redelegation of authority supersedes all previous delegations from the Director, Office of Head Start, on these subjects.

I hereby affirm and ratify any actions taken by the Director, Program Operations Division which, in effect, involved the exercise of these authorities prior to the effective date of this redelegation.

Dated: May 15, 2007.
Channell Wilkins,
Director, Office of Head Start.

[FR Doc. E7-9925 Filed 5-22-07; 8:45 am]

BILLING CODE 4184-01-P